DEPARTMENT OF ENERGY

Federal Energy Regulatory Commission

[Project No. 12449-013]

Neshkoro Power Associates, LLC, Wisconsin8, LLC; Notice of Application for Transfer of License and Soliciting Comments, Motions To Intervene, and Protests

On July 13, 2016, Neshkoro Power Associates, LLC (transferor) and Wisconsin8, LLC (transferee) filed an application for the transfer of license of the Big Falls Milldam Hydroelectric Project No. 2550. The project is located on the Little Wolf River in Waupaca County, Wisconsin. The project does not occupy federal lands.

The applicants seek Commission approval to transfer the license for the Big Falls Milldam Hydroelectric Project from the transferor to the transferee.

Applicants Contact: For transferor: Mr. Bernard H. Cherry, Neshkoro Power Associates, LLC, c/o Eagle Creek Renewable Energy, LLC, 65 Madison Avenue, Morristown, NJ 07960, Phone: 973-998-8400, Email: bud.cherry@eaglecreekre.com and Mr. Donald H. Clarke and Mr. Joshua E. Adrian, Duncan, Weinberg, Genzer & Pembroke, P.C., 1615 M Street NW., Suite 800, Washington, DC 20036, Phone 202-467-6370, Emails: dhc@dwgp.com and jea@dwgp.com. For Transferee: Mr. Dwight Bowler, Wisconsin8, LLC, 813 Jefferson Hill Road, Nassau, New York 12123, Phone: 518-766-2753, Email: dbowler838@aol.com and Mr. Joshua A. Sabo, 287 North Greenbush Road, Troy, New York 12180, Phone: 518-286-9050, Email: jsabo@sabolaw.net.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12449-013.

Dated: July 26, 2016.
Kimberly D. Bose,
Secretary.

[FR Doc. 2016-18574 Filed 8-4-16; 8:45 am]

BILLING CODE 6717-01-P